DEPARTMENT OF THE INTERIOR

Bureau of Land Management

[Docket No. OR-020-1020-DE; G-0247]

Meeting Notice for the Southeast Oregon Resource Advisory Council

SUMMARY: The Southeast Oregon Resource Advisory Council will meet at the Bureau of Land Management, Burns District Office, HC 74-12533 Hwy 20 West, Hines, Oregon 97738, 8:00 a.m. to 5:00 p.m., Pacific Daylight Time (PDT), on Thursday, July 20, 2000, and conduct an access and restoration field tour from 8:00 a.m. to 2:00 p.m., on Friday, July 21, 2000. Topics to be discussed by the Council include Interim Sage Grouse Guidelines update, Steens Mountain Designation update, Owyhee River Canyon Litigation update, Off-Highway Vehicle Strategy, Southeastern Oregon Resource Management Plan update, Lakeview Resource Management Plan (RMP) update, and such other matters as may reasonably come before the Council. The entire meeting is open to the public. Public comment is scheduled for 11:00 a.m. to 11:30 a.m. PDT on Thursday, July 20, 2000.

An optional BLM Lakeview RMP field tour will meet on Wednesday, July 19, 2000, at 7:00 a.m. at the BLM Lakeview Interagency Office to participate in discussions and issues concerning the Lakeview RMP. Additional information concerning the Lakeview RMP optional field tour may be obtained from Dwayne Sykes, RMP Team Leader, Lakeview Interagency Office, 1300 South G Street, Lakeview, Oregon 97630, (541) 947-2177, or Duayne_ Sykes@or.blm.gov.

The Southeast Oregon Resource Advisory Council will meet again the following dates in the year 2000.

DATES: 10/19-20/2000.

PLACE/LOCATION: Lakeview District Office, BLM; Lakeview, Oregon.

FOR FURTHER INFORMATION CONTACT: Additional information concerning the Southeast Oregon Resource Advisory Council may be obtained from Holly_LaChapelle, Resource Assistant, Burns District Office, HC 74-12533 Hwy 20 West, Hines, Oregon, 97738, (541) 573-4501, or Holly LaChapelle@or.blm.gov or from the following web site <http://www.or.blm.gov/SEOR-RAC>.

Dated: June 8, 2000.
Craig M. Hansen,
Three Rivers Resource Area Field Manager.

[FR Doc. 00-15335 Filed 6-16-00; 8:45 am]

BILLING CODE 4310-70-M